DEPARTMENT OF TRANSPORTATION

Maritime Administration

[USCG-2010-0993]

Liberty Natural Gas LLC, Liberty Liquefied Natural Gas (LNG) Deepwater Port License Application

AGENCY: Maritime Administration, DOT.

ACTION: Notice of intent; notice of public meeting; request for comments.

SUMMARY: The Maritime Administration, in coordination with the U.S. Coast Guard, will prepare an environmental impact statement (EIS) as part of the environmental review of the Liberty Deepwater Port License Application. The application describes an offshore natural gas deepwater port facility that would be located approximately 16.2 miles off the coast of New Jersey and will connect via offshore pipeline to a 9.2 mile onshore pipeline. Publication of this notice begins a scoping process that will help identify and determine the scope of environmental issues to be addressed in the EIS. This notice requests public participation in the scoping process and provides information on how to participate.

DATES: There will be a series of three public scoping meetings held in connection with the application. The first public meeting will be held in Rockaway Park, New York on February 8, 2011, from 6:30 p.m. to 8 p.m., and will be preceded by an open house from 5 p.m. to 6 p.m.

The second public meeting will be held in Long Branch, New Jersey on February 9, 2011, from 6:30 p.m. to 8 p.m., and will be preceded by an open house from 5 p.m. to 6 p.m.

The third public meeting will be held in Edison, New Jersey on February 10, 2011, from 6:30 p.m. to 8 p.m. and will be preceded by an open house from 5 p.m. to 6 p.m.

Each of the three public meetings may end later than the stated time, depending on the number of persons wishing to speak. Additionally, materials submitted in response to the request for comments on the license application must reach the Docket Management Facility by February 23, 2011.

ADDRESSES: The open house and public meeting in Rockaway Park will be held at Beach Channel High School, 100-00 Beach Channel Drive, Rockaway Park, NY 11694-2818, (718) 945-6900. The New York City Department of Education disclaims involvement in the open house and public meeting to be held on the premises of Beach Channel High School.

The open house and public meeting in Long Branch will be held at Long Branch Middle School, 350 Indiana Avenue, Long Branch, NJ 07740-6198, (732) 229-5533.

The open house and public meeting in Edison will be held atthe New Jersey Convention & Exposition Center at Raritan Center, Edison, 97 Sunfield Avenue, Edison, NJ 08837-3810, (732) 417-1400.

The license application, comments and associated documentation are available for viewing at the Federal Docket Management System (FDMS) Web site: http://www.regulations.gov under docket number USCG-2010-0993.

Docket submissions for USCG-2010-0993 should be addressed to: Department of Transportation, Docket Management Facility, West Building, Ground Floor, Room W12-140, 1200 New Jersey Avenue, SE., Washington, DC 20590-0001.

The Federal Docket Management Facility accepts hand-delivered submissions, and makes docket contents available for public inspection and copying at the above address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Mr. Ray Martin, U.S. Coast Guard, telephone: 202-372-1449, e-mail: Raymond.W.Martin@uscg.mil, or Ms. Yvette M. Fields, Director, Office of Deepwater Ports and Offshore Activities, Maritime Administration, telephone: 202-366-0926, e-mail: Yvette.Fields@dot.gov. If you have questions on viewing the Docket, call Ms. Renee V. Wright, Program Manager, Docket Operations, telephone 202-493-0402.

SUPPLEMENTARY INFORMATION:

Public Meeting and Open House

We invite you to learn about the proposed deepwater port at any of the above informational open houses, and to comment at any of the above public meetings on environmental issues related to the proposed deepwater port. Your comments will help us identify and refine the scope of the environmental issues to be addressed in the EIS.

In order to allow everyone a chance to speak at a public meeting, we may limit speaker time, or extend the meeting hours, or both. You must identify yourself, and any organization you represent, by name. Your remarks will be recorded or transcribed for inclusion in the public docket.

You may submit written material at a public meeting, either in place of or in addition to speaking. Written material must include your name and address, and will be included in the public docket.

Public docket materials will be made available to the public on the Federal Docket Management Facility (see Request for Comments).

Our public meeting locations are wheelchair-accessible. If you plan to attend an open house or public meeting, and need special assistance such as sign language interpretation or other reasonable accommodation, please notify the U.S. Coast Guard (see FOR FURTHER INFORMATION CONTACT) at least 3 business days in advance. Include your contact information as well as information about your specific needs.

Request for Comments

We request public comments or other relevant information on environmental issues related to the proposed deepwater port. The public meeting is not the only opportunity you have to comment. In addition to, or in place of attending a meeting, you can submit comments to the Federal Docket Management Facility during the public comment period (see DATES). We will consider all comments and material received during the comment period.

Submissions should include:

• Docket number USCG-2010-0993.

• Your name and address.

Submit comments or material using only one of the following methods:

• Electronic submission to the Federal Docket Management Facility, http://www.regulations.gov.

• Fax, mail, or hand deliver to the Federal Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov), and will include any personal information you provide. Therefore, submitting this information makes it public. You may wish to read the Privacy and Use Notice that is available on the FDMS Web site, and the Department of Transportation Privacy Act Notice that appeared in the Federal Register on April 11, 2000 (65 FR 19477), see PRIVACY ACT. You may view docket submissions at the Department of Transportation Docket Management Facility or electronically on the FDMS Web site (see ADDRESSES).

Background

Information about deepwater ports, the statutes, and regulations governing their licensing, and the receipt of the current application for the proposed Liberty Deepwater Port appears in the November 17, 2010 Federal Register (75 FR 70350.) The “Summary of the Application” from that publication is reprinted below for your convenience.

Consideration of a deepwater port license application includes review of the proposed deepwater port's natural and human environmental impacts. The U.S. Coast Guard is the lead agency for determining the scope of this review, and in this case the U.S. Coast Guard has determined that review must include preparation of an Environmental Impact Statement. This notice of intent is required by 40 CFR 1501.7, and briefly describes the proposed action, possible alternatives, and our proposed scoping process. You can address any questions about the proposed action, the scoping process, or the Environmental Impact Statement to the U.S. Coast Guard project manager identified in FOR FURTHER INFORMATION CONTACT.

Proposed Action and Alternatives

The proposed action requiring environmental review is the Federal licensing of the proposed deepwater port described in “Summary of the Application” below. The alternatives to licensing the proposed port are: (1) Licensing with conditions (including conditions designed to mitigate environmental impact), or (2) denying the application, which for purposes of environmental review is the “no-action” alternative.

Scoping Process

Public scoping is an early and open process for identifying and determining the scope of issues to be addressed in the Environmental Impact Statement. Scoping begins with this notice, continues through the public comment period (see DATES), and ends when the U.S. Coast Guard has completed the following actions:

• Invites the participation of Federal, State, and local agencies, any affected Indian tribe, the applicant, and other interested persons;

• Determines the actions, alternatives, and impacts described in 40 CFR 1508.25;

• Identifies and eliminates, from detailed study, those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

Once the scoping process is complete, the U.S. Coast Guard will prepare a draft EIS, and in conjunction with the Maritime Administration, will publish a Federal Register notice announcing public availability of the draft EIS. (If you want that notice to be sent to you, please contact the Coast Guard project manager identified in FOR FURTHER INFORMATION CONTACT.) You will have an opportunity to review and comment on the draft EIS. The Coast Guard will consider those comments, and then prepare the final EIS. As with the draft EIS, we will announce the availability of the final EIS, and once again give you an opportunity for review and comment.

Summary of the Application

Liberty Natural Gas, LLC, proposes to own, construct, and operate a natural gas deepwater port, known as Liberty Deepwater Port. It would be located approximately 16 miles off the coast of New Jersey to the east of Asbury Park in a water depth of approximately 100 to 120 feet. It will connect via offshore pipeline to a 9.2 mile onshore pipeline that will traverse through Perth Amboy, Woodbridge and Carteret in Middlesex County, New Jersey and terminate in Linden, Union County, New Jersey.

Liberty Deepwater Port would receive and transfer natural gas from purpose-built LNG regasification vessels (LNGRVs) with a total cargo tank capacity of approximately 145,000 m³. The vessels would be equipped to vaporize LNG cargo to natural gas through onboard closed loop vaporization systems and odorize and meter gas for send-out by means of a Submerged Turret Loading™ (STL) Buoy system. When the vessels are not present, the buoy would be submerged on a special landing pad on the seafloor, 100-120 feet below the sea surface. The top of the buoy would be approximately 50-70 feet below the surface of the water.

Liberty Deepwater Port would consist of up to four Submerged Turret Loading™ (STL) Buoy systems. Each buoy system would connect to an 18-inch diameter pipeline, called a Lateral, at a pipeline end manifold (PLEM) installed on the seafloor. The Laterals would be approximately 0.6 miles to 1 mile in length. Natural gas would flow through each Lateral to the 36-inch diameter, 44.37 mile long Offshore Pipeline. The Offshore Pipeline would connect to a 36-inch diameter, 9.2 mile long Onshore Pipeline that would traverse through Perth Amboy, Woodbridge and Carteret in Middlesex County, New Jersey and terminate in Linden, Union County, New Jersey. The Onshore Pipeline would connect to Transco and TETCO pipeline systems.

The Liberty Deepwater Port would be installed in two phases, with the first two Submerged Turret Loading™ (STL) Buoy systems and accompanying onshore and offshore pipeline infrastructure proposed to be installed and operational by the end of 2013. The second phase, consisting of an additional pair of Submerged Turret Loading™ (STL) Buoy systems and associated Laterals, would be constructed at a later date.

The Offshore Pipeline ultimately used by four STL Buoy systems will have a delivery capacity of approximately 2.4 billion cubic feet per day (bcf/d) of natural gas. Each LNGRV will have an average natural gas delivery capacity of 600 million cubic feet per day (MMcf/d) with a maximum capacity of 750 MMcf/d.

Liberty Natural Gas LLC is currently seeking Federal Energy Regulatory Commission (FERC) approval for the onshore pipelines. As required by FERC regulations, FERC will also maintain a docket for the FERC portion of the project. The docket number is CP11-10. The filing may also be viewed on the web at http://www.ferc.gov using the “eLibrary” link. Choose “General Search” and enter the docket number excluding the last three digits in the docket number field to access the document. For assistance, contact FERC Online Support at FercOnlineSupport@ferc.gov or call (866) 208-3676 or TYY, (202) 502-8659.

In addition, pipelines and structures, such as the Submerged Turret Loading™ (STL) Buoy systems, may require permits under Section 404 of the Clean Water Act and Section 10 of the Rivers and Harbors Act which are administered by the U.S. Army Corps of Engineers (USACE).

Liberty Deepwater Port may also require permits from the Environmental Protection Agency (EPA) pursuant to the provisions of the Clean Air Act, as amended, and the Clean Water Act, as amended.

The offshore and onshore pipelines will be included in the National Environmental Policy Act (NEPA) review as part of the deepwater port application process. FERC, EPA, and the USACE, among others, are cooperating agencies and will assist in the NEPA process as described in 40 CFR 1501.6. Also, these agencies may participate in the scoping meetings and will incorporate the EIS into their permitting processes. Comments sent to the FERC docket, or to the EPA, USACE, and/or other agencies will be incorporated into the DOT docket and considered as the EIS is developed to ensure consistency with the NEPA Process.

Should a license be issued, construction of the deepwater port would be expected to take approximately 18 months over a two-year period with startup of commercial operations following construction. The deepwater port would be designed, constructed, and operated in accordance with applicable codes and standards.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

Authority: 49 CFR 1.66.

By Order of the Maritime Administrator.
Dated: January 19, 2011.
Christine Gurland,
Secretary, Maritime Administration.

[FR Doc. 2011-1448 Filed 1-24-11; 8:45 am]

BILLING CODE 4910-81-P